DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Community Mental Health Services Block Grant and Substance Abuse and Prevention Treatment Block Grant FY 2018-2019 Plan and Report Guidance and Instructions (OMB No. 0930-0168)—Revision

The Substance Abuse and Mental Health Services Administration (SAMHSA) is requesting approval from the Office of Management and Budget (OMB) for a revision of the 2016-17 Community Mental Health Services Block Grant (MHBG) and Substance Abuse Prevention and Treatment Block Grant (SABG) Plan and Report Guidance and Instructions.

Currently, the SABG and the MHBG differ on a number of their practices (e.g., data collection at individual or aggregate levels) and statutory authorities (e.g., method of calculating MOE, stakeholder input requirements for planning, set asides for specific populations or programs, etc.). Historically, the Centers within SAMHSA that administer these block grants have had different approaches to application requirements and reporting. To compound this variation, states have different structures for accepting, planning, and accounting for the block grants and the prevention set aside within the SABG. As a result, how these dollars are spent and what is known about the services and clients that receive these funds varies by block grant and by state.

Increasingly, under the Affordable Care Act, more individuals are eligible for Medicaid and private insurance. This expansion of health insurance coverage will continue to have a significant impact on how State Mental Health Authorities (SMHAs) and Single State Agencies (SSAs) use their limited resources. In 2009, more than 39 percent of individuals with serious mental illnesses (SMI) or serious emotional disturbances (SED) were uninsured. Sixty percent of individuals with substance use disorders whose treatment and recovery support services were supported wholly or in part by SAMHSA block grant funds were also uninsured. A substantial proportion of this population has gained health insurance coverage since enactment of the Affordable Care Act and now has various outpatient and other services covered through Medicaid, Medicare, or private insurance. However, coverage provided by these plans and programs do not necessarily provide access to the full range of support services needed to achieve and maintain recovery for most of these individuals and their families.

Given these changes, SAMHSA has conveyed that block grant funds be directed toward four purposes: (1) To fund priority treatment and support services for individuals without insurance or who cycle in and out of health insurance coverage; (2) to fund those priority treatment and support services not covered by Medicaid, Medicare or private insurance offered through the exchanges and that demonstrate success in improving outcomes and/or supporting recovery; (3) to fund universal, selective and targeted prevention activities and services; and (4) to collect performance and outcome data to determine the ongoing effectiveness of behavioral health prevention, treatment and recovery support services and to plan the implementation of new services on a nationwide basis.

To help states meet the challenges of 2018 and beyond, and to foster the implementation and management of an integrated physical health and mental health and addiction service system, SAMHSA must establish standards and expectations that will lead to an improved system of care for individuals with or at risk of mental and substance use disorders. Therefore, this application package includes fully exercising SAMHSA's existing authority regarding states', territories' and the Red Lake Band of the Chippewa Tribe's (subsequently referred to as “states”) use of block grant funds as they fully integrate behavioral health services into the broader health care continuum.

Consistent with previous applications, the FY 2018-2019 application has sections that are required and other sections where additional information is requested. The FY 2018-2019 application requires states to submit a face sheet, a table of contents, a behavioral health assessment and plan, reports of expenditures and persons served, an executive summary, and funding agreements and certifications. In addition, SAMHSA is requesting information on key areas that are critical to the states success in addressing health care integration. Therefore, as part of this block grant planning process, SAMHSA is asking states to identify both their promising or effective strategies as well as their technical assistance needs to implement the strategies they identify in their plans for FYs 2018 and 2019.

To facilitate an efficient application process for states in FYs 2018-2019, SAMHSA convened an internal workgroup to review and modify the application for the block grant planning section. In addition, SAMHSA utilized the questions and requests for clarification from representatives from SMHAs and SSAs to inform the proposed changes to the block grants. Based on these discussions with states, SAMHSA is proposing several changes to the block grant programs as discussed in greater detail below.

Changes to Assessment and Planning Activities

The proposed revisions reflect changes within the planning section of the application. The most significant change involves a movement away from a request for multiple narrative descriptions of the state's activities in a variety of areas to a more quantitative response to specific questions, reflecting statutory or regulatory requirements where applicable, or reflecting specific uses of block grant funding. In addition, to respond to the requests from states, the required and requested sections have been clearly identified.

The FY 2016-2017 application sections that gave states policy guidance on the planning and implementation of system issues which were not authorized services under either block grant have been eliminated to avoid confusion. In addition, the statutory criteria which govern the plan, report and application have been included in the document as references.

Other specific proposed revisions are described below:

• Health Care System, Parity and Integration—This section is a consolidation of the FY 2016-2017 sections on the Affordable Care Act, health insurance marketplace, parity, enrollment and primary and behavioral health care integration. It is vital that SMHAs and SSAs programming and planning reflect the strong connection between behavioral and physical health. Fragmented or discontinuous care may result in inadequate diagnosis and treatment of both physical and behavioral conditions, including co-occurring disorders. Health care professionals, consumers of mental, substance use disorders, co-occurring mental, and substance use disorders treatment recognize the need for improved coordination of care and integration of primary and behavioral health care. Health information technology, including electronic health records (EHRs), and telehealth are examples of important strategies to promote integrated care. Use of EHRs—in full compliance with applicable legal requirements—may allow providers to share information, coordinate care and improve billing practices.

• Evidenced-Based Practices for Early Intervention for the MHBG—In its FY 2016 appropriation, SAMHSA was directed to require that states set aside 10 percent of their MHBG allocation to support evidence-based programs that provide treatment to those with early SMI including but not limited to psychosis at any age. SAMHSA worked collaboratively with the National Institute on Mental Health (NIMH) to review evidence showing efficacy of specific practices in ameliorating SMI and promoting improved functioning. NIMH has released information on Components of Coordinated Specialty Care (CSC) for First Episode Psychosis. Results from the NIMH funded Recovery After an Initial Schizophrenia Episode (RAISE) initiative, a research project of the NIMH, suggest that mental health providers across multiple disciplines can learn the principles of CSC for First Episode of Psychosis (FEP), and apply these skills to engage and treat persons in the early stages of psychotic illness.

States can implement models across a continuum, which have demonstrated efficacy, including the range of services and principles identified by NIMH. Utilizing these principles, regardless of the amount of investment, and with leveraging funds through inclusion of services reimbursed by Medicaid or private insurance, every state will be able to begin to move their system toward earlier intervention, or enhance the services already being implemented.

Other Changes

While the statutory deadlines and block grant award periods remain unchanged, SAMHSA encourages states to turn in their application as early as possible to allow for a full discussion and review by SAMHSA. Applications for the MHBG-only is due no later than September 1, 2017. The application for SABG-only is due no later than October 1, 2017. A single application for MHBG and SABG is due no later than September 1, 2017.

Estimates of Annualized Hour Burden

The estimated annualized burden for the uniform application is 33,374 hours. Burden estimates are broken out in the following tables showing burden separately for Year 1 and Year 2. Year 1 includes the estimates of burden for the uniform application and annual reporting. Year 2 includes the estimates of burden for the recordkeeping and annual reporting. The reporting burden remains constant for both years.

Table 1—Estimates of Application and Reporting Burden for Year 1
Substance Abuse Prevention and Treatment and Community Mental Health Services Block Grants: Authorizing legislation SABG | Substance Abuse Prevention and Treatment and Community Mental Health Services Block Grants: Authorizing legislation MHBG | Substance Abuse Prevention and Treatment and Community Mental Health Services Block Grants: Implementing regulation | Substance Abuse Prevention and Treatment and Community Mental Health Services Block Grants: Number of respondent | Substance Abuse Prevention and Treatment and Community Mental Health Services Block Grants: Number of responses per year | Substance Abuse Prevention and Treatment and Community Mental Health Services Block Grants: Number of hours per response | Substance Abuse Prevention and Treatment and Community Mental Health Services Block Grants: Total hours
Reporting: Standard Form and Content—
42 U.S.C. 300x-32(a)
SABG:
Annual Report |  |  |  |  |  | 11,160
42 U.S.C. 300x-52(a) |  | 45 CFR 96.122(f) | 60 | 1
42 U.S.C. 300x-30-b |  |  | 5 | 1
42 U.S.C. 300x-30(d)(2) |  | 45 CFR 96.134(d) | 60 | 1
MHBG:
Annual Report— |  |  |  |  |  | 10,974
| 42 USC § 300x-6(a) |  | 59 | 1
| 42 U.S.C. 300x-52(a)
| 42 U.S.C. 300x-4(b)(3)B |  | 59 | 1
State Plan (Covers 2 years)
SABG elements:
42 U.S.C. 300x-22(b) |  | 45 CFR 96.124(c)()1) | 60 | 1
42 U.S.C. 300x-23 |  | 45 CFR 96.126(f) | 60 | 1
42 U.S.C. 300x-24 |  | 45 CFR 96.127(b) | 60 | 1
42 U.S.C. 300x-27 |  | 45 CFR 96.131(f) | 60 | 1
42 U.S.C. 300x-29 |  | 45 CFR 96.133(a) | 60 | 1
42 U.S.C. 300x-32(b) |  | 45 CFR 96.122(g) | 60 | 1 | 120 | 7,200
MHBG elements:
| 42 U.S.C. 300x-1(b) |  | 59 | 1 | 120 | 7,080
| 42 U.S.C. 300x-1(b)(11) |  | 59 | 1
| 42 U.S.C. 300x-2(a) |  | 59 | 1
Waivers |  |  |  |  |  | 3,240
42 U.S.C. 300x-24(b)(5)(B) |  |  | 20 | 1
42 U.S.C. 300x-28(d) |  | 45 CFR 96.132(d) | 5 | 1
42 U.S.C. 300x-30(c) |  | 45 CFR 96.134(b) | 10 | 1
42 U.S.C. 300x-31(c) |  |  | 1 | 1
42 U.S.C. 300x-32(c) |  |  | 7 | 1
42 U.S.C. 300x-32(e) |  |  | 10
| 300x-2(a)(2) |  | 10
| 300x-4(b)(3) |  | 10
| 300x-6(b) |  | 7
Recordkeeping—
42 U.S.C. 300x-23 | 42 U.S.C. 300x-3 | 45 CFR 96.126(c) | 60/59 | 1 | 20 | 1,200
42 U.S.C. 300x-25 |  | 45 CFR 96.129(a)(13) | 10 | 1 | 20 | 200
42 U.S.C 300x-65 |  | 42 CFR Part 54 | 60 | 1 | 20 | 1,200
Combined Burden |  |  |  |  |  | 42,254
Report
300x-52(a)—Report.
300x-30(b)—Exclusion of Certain Funds (SABG).
300x-30(d)(2)—Maintenance of Effort (SABG).
300x-4(b)(3)B—Maintenance of Effort (MHBG).
State Plan—SABG
300x-22(b)—Allocations for Women.
300x-23—Intravenous Substance Abuse.
300x-24—Requirements Regarding TB and HIV.
300x-27—Priority in Admissions to Treatment.
300x-29—Statewide Assessment of Need.
300x-32(b)—State Plan.
State Plan—MHBG
42 U.S.C. 300x-1(b)—Criteria for Plan.
42 U.S.C. 300x-1(b)(11)—Incidence and prevalence in the state adults with SMI and Children with SED.
42 U.S.C. 300x-2(a)—Allocations for Systems Integrated Services for Children.
Waivers—SABG
300x-24(b)(5)(B)—Rural requirement regarding EIS/HIV.
300x-28(d)—Additional Agreements.
300x-30(c)—Maintenance of Effort.
300x-31(c)—Construction.
300x-32(c)—Certain Territories.
300x-32(e)—Waiver amendment for 1922, 1923, 1924 and 1927.
Waivers—MHBG
300x-2(a)(2)—Allocations for Systems Integrated Services for Children.
300x-4(b)(3)—Waiver of Statewide Maintenance of Effort.
300x-6(b)—Waiver for Certain Territories.
Recordkeeping
300x-23—Waiting list.
300x-25—Revolving loan fund.
300x-65—Charitable Choice.

Table 2—Estimates of Application and Reporting Burden for Year 2
| Number of respondents | Number of responses per year | Number of hours per response | Total hours
Reporting:
SABG | 60 | 1 | 186 | 11.160
MHBG | 59 | 1 | 186 | 10,974
Recordkeeping | 60/59 | 1 | 40 | 2,360
Combined Burden |  |  |  | 24,494
The total annualized burden for the application and reporting is 33,374 hours (42,254 + 24,494 = 66,748/2 years = 33,374).
Link for the application: http://www.samhsa.gov/grants/block-grants.

Send all comments via email to blockgrants@samhsa.hhs.gov. Comments should be received by January 23, 2017.

Summer King,
Statistician.

[FR Doc. 2016-28043 Filed 11-21-16; 8:45 am]

BILLING CODE 4162-20-P